DEPARTMENT OF THE INTERIOR

Bureau of Land Management

[CA-330-1820-DH-014B]

Headwaters Forest Reserve, California

AGENCY: Bureau of Land Management in Partnership with California Department of Fish and Game.

ACTION: Notice of intent.

SUMMARY: This Notice of Intent to prepare an Environmental Impact Statement (EIS)/Environmental Impact Report (EIR) for the adoption of a Management Plan for the Headwaters Forest Reserve in the northcoast area of California is the result of the acquisition of the property by the U.S. Department of the Interior and the State of California by purchase in March 1999. The Federal legislation creating the Reserve prescribes management issues that the plan must address (1997 Interior Appropriations Bill). Land and resource management alternatives will be formulated to address the required issues in different ways that are consistent with the preservation of ecological integrity and other policy direction specified in the legislation. The “no action” alternative will consist of continuation of the current interim management strategy, established in 1999.

DATES: Three public meetings are scheduled to solicit public input for plan implementation and to impact the assessment of planning alternatives: Eureka, California: June 13, 2000 at the Eureka Inn, 518 7th Street, Eureka, California; San Francisco, California: June 20, 2000 at Fort Mason, Landmark Building A, San Francisco, California; Sacramento, California: June 22, 2000 at the Scottish Rite Memorial Center, 6151 H Street, Sacramento, California.

SUPPLEMENTARY INFORMATION: An internet web page describes in detail the scope of the proposed plan and provides background information on the Headwaters Forest Reserve. The web page contains instructions for submitting scoping comments, and coding of comments by subject is requested. The internet address of the web site of www.ca.blm.gov/arcata/headwaters.html. The deadline for submitting comments is Monday, July 3, 2000.

FOR FURTHER INFORMATION CONTACT: Lynda J. Roush, Arcata Field Manager, at 707-825-2300 or Headwaters Forest Reserve Management Plan Information Line, 916-737-3010, extension 4326. Email comments should be sent to headwatersplan@att.net, or comment letters should be mailed to P.O. Box 189445, Sacramento, California 95818-9445.

Lynda J. Roush,
Arcata Field Manager.

[FR Doc. 00-13795 Filed 6-1-00; 8:45 am]

BILLING CODE 4310-40-M